INTERNATIONAL TRADE COMMISSION

[Investigation No. 731-TA-1203 (Review)]

Xanthan Gum From China

Determination

On the basis of the record ¹ developed in the subject five-year review, the United States International Trade Commission (“Commission”) determines, pursuant to the Tariff Act of 1930 (“the Act”), that revocation of the antidumping duty order on xanthan gum from China would be likely to lead to continuation or recurrence of material injury to an industry in the United States within a reasonably foreseeable time.

¹ The record is defined in sec. 207.2(f) of the Commission's Rules of Practice and Procedure (19 CFR 207.2(f)).

Background

The Commission, pursuant to section 751(c) of the Act (19 U.S.C. 1675(c)), instituted this review on June 1, 2018 (83 FR 25485) and determined on September 4, 2018 that it would conduct an expedited review (83 FR 48653, September 26, 2018).

The Commission made this determination pursuant to section 751(c) of the Act (19 U.S.C. 1675(c)). It completed and filed its determination in this review on November 15, 2018. The views of the Commission are contained in USITC Publication 4839 (November 2018), entitled Xanthan Gum from China: Investigation No. 731-TA-1203 (Review).

By order of the Commission.
Issued: November 15, 2018.
Lisa Barton,
Secretary to the Commission.

[FR Doc. 2018-25290 Filed 11-19-18; 8:45 am]

BILLING CODE 7020-02-P